SMALL BUSINESS ADMINISTRATION

[Disaster Declaration #14629 and #14630]

Missouri Disaster Number MO-00079

AGENCY: U.S. Small Business Administration.

ACTION: Amendment 1.

SUMMARY: This is an amendment of the Presidential declaration of a major disaster for Public Assistance Only for the State of Missouri (FEMA-4250-DR), dated 02/10/2016.

Incident: Severe storms, tornadoes, straight-line winds, and flooding.

Incident Period: 12/23/2015 through 01/09/2016.

Effective Date: 03/17/2016.

Physical Loan Application Deadline Date: 04/11/2016.

Economic Injury (EIDL) Loan Application Deadline Date: 11/10/2016.

ADDRESSES: Submit completed loan applications to: U.S. Small Business Administration Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the President's major disaster declaration for Private Non-Profit organizations in the State of Missouri, dated 02/10/2016, is hereby amended to include the following areas as adversely affected by the disaster.

Primary Counties: Mississippi, New Madrid, Pemiscot, Shannon

All other information in the original declaration remains unchanged.

(Catalog of Federal Domestic Assistance Numbers 59002 and 59008)

James E. Rivera,
Associate Administrator for Disaster Assistance.

[FR Doc. 2016-06970 Filed 3-25-16; 8:45 am]

BILLING CODE 8025-01-P